DEPARTMENT OF EDUCATION

Applications for New Awards; State Tribal Education Partnership (STEP)—Tribal Education Agency Development Discretionary Grant Program (STEP Development)

AGENCY: Office of Elementary and Secondary Education, Department of Education.

ACTION: Notice.

SUMMARY: The Department of Education (Department) is issuing a notice inviting applications for fiscal year (FY) 2019 for State Tribal Education Partnership (STEP), Catalog of Federal Domestic Assistance (CFDA) number 84.415A. This notice relates to the approved information collection under OMB control number 1894-0006.

DATES:

Applications Available: June 13, 2019.

Deadline for Notice of Intent to Apply: June 28, 2019.

Deadline for Transmittal of Applications: August 12, 2019.

Deadline for Intergovernmental Review: October 11, 2019.

Pre-Application Webinar Information: The Department will hold a pre-application meeting via webinar for prospective applicants on a date to be determined. Individuals interested in attending this meeting are encouraged to pre-register by emailing their name, organization, and contact information with the subject heading “STEP GRANTS PRE-APPLICATION MEETING” to shahla.ortega@ed.gov. There is no registration fee for attending this meeting.

ADDRESSES: For the addresses for obtaining and submitting an application, please refer to our Common Instructions for Applicants to Department of Education Discretionary Grant Programs published in the Federal Register on February 13, 2019 (84 FR 3768), and available at www.govinfo.gov/content/pkg/FR-2019-02-13/pdf/2019-02206.pdf.

FOR FURTHER INFORMATION CONTACT: Shahla Ortega, U.S. Department of Education, 400 Maryland Avenue SW, Room 3W245, Washington, DC 20202-6450. Telephone: (202) 453-5602. Email: shahla.ortega@ed.gov.

If you use a telecommunications device for the deaf (TDD) or a text telephone (TTY), call the Federal Relay Service (FRS), toll-free, at 1-800-877-8339.

SUPPLEMENTARY INFORMATION:

Full Text of Announcement

I. Funding Opportunity Description

Purpose of Program: The purposes of the STEP program are to: (1) Promote Tribal self-determination in education; (2) improve the academic achievement of Indian children and youth; and (3) promote the coordination and collaboration of Tribal educational agencies (TEAs) with State educational agencies (SEAs) and local educational agencies (LEAs) to meet the unique education and culturally related academic needs of Indian students.

Background:

STEP was revised under section 6132 of the Elementary and Secondary Education Act (ESEA) to include one-year grants to Indian Tribes (as defined in this notice) that do not have a TEA, or Tribal organizations approved by an Indian Tribe that do not have a TEA, to develop a TEA.

Our intent for this competition is to provide one-year grants to support Tribes' creation of TEAs (as defined in this notice) so that they will be eligible to apply for a three-year STEP grant in future fiscal years. Therefore, we have designed elements of this competition to maximize alignment between the one- and three-year programs. For example, in order to receive funding, an applicant must demonstrate that it has at least one full-time employee on staff who works exclusively on education issues. We believe that it will be critically important for Indian Tribes receiving a one-year STEP grant to have staff in place from the beginning of their projects in order to successfully meet program outcomes and have a TEA in place by the end of the project period and, thus, be eligible to compete for a three-year grant in future fiscal years. We also require that, at the end of the one-year project, grantees be able to demonstrate that they meet the program outcomes and have at least two other characteristics of a successful TEA, in addition to having at least one full-time employee dedicated to education issues.

In accordance with the Department's commitment to engage in regular and meaningful consultation and collaboration with Indian Tribes, the Office of Elementary and Secondary Education (OESE), Office of Indian Education (OIE), and the White House Initiative on American Indian and Alaska Native Education conducted a Tribal Consultation regarding the reauthorized STEP program. Consistent with the Department's trust responsibility to Tribes and its Tribal Consultation Policy, OESE consulted with elected officials of federally recognized Tribes to ensure that their views inform OESE's policy decisions related to the priorities, requirements, definitions, and selection criteria that govern this competition. OIE will respond to the Tribal Consultation in a separate correspondence. At the Tribal Consultation there was significant interest in providing opportunities for Tribes that do not have a TEA to create one. This notice respects this Tribal interest by is establishing an invitational priority, definitions, and requirements consistent with supporting the creation of new TEAs.

In addition, the Department remains focused on supporting innovative strategies for improving delivery of educational services to the Nation's students, consistent with the Secretary's Supplemental Priority entitled “Promoting Innovation and Efficiency, Streamlining Education with an Increased Focus on Improving Student Outcomes, and Providing Increased Value to Students and Taxpayers” (83 FR 9096). In the context of the FY 2019 STEP competition, we are especially interested in Tribes' and Tribal organizations' approaches to forming TEAs that are well-positioned to deliver services that will meet the specific needs of the Native students in their communities, further promoting Tribal self-determination in education. We believe that applicants may be better positioned to create successful and sustainable TEAs if they work closely with other organizations in the community from the beginning. For example, we believe that engaging meaningfully with community stakeholders may help Tribes lay the groundwork for how their TEAs will develop school improvement plans or native language assessments, or revise schoolwide project plans, under Title I, Part A of the ESEA. Therefore, we are including an invitational priority in this competition for applicants that propose to engage with other stakeholders in the community, such as nonprofit organizations, private organizations, and local businesses, in designing their TEA.

Priority: Under this competition we are particularly interested in applications that address the following priority.

Invitational Priority: For FY 2019 and any subsequent year in which we make awards from the list of unfunded applications from this competition, this priority is an invitational priority. Under 34 CFR 75.105(c)(1) we do not give an application that meets this invitational priority a competitive or absolute preference over other applications.

This priority is:

Promoting Sustainability through Community Engagement.

This priority is for applicants who propose to develop their TEA in coordination with local stakeholders, such as nonprofit organizations, private organizations, and local businesses, for the purposes of (1) improving alignment of planned educational services to be delivered by the TEA with the needs of Native students in the community and (2) ensuring sustained community engagement at the end of the 12-month project.

Requirements: We are establishing these application and program requirements for the FY 2019 grant competition, and any subsequent year in which we make awards from the list of unfunded applications from this competition, in accordance with section 437(d)(1) of the General Education Provisions Act (GEPA), 20 U.S.C. 1232(d)(1).

Application Requirements: Each application must contain a plan that includes the following:

(a) A description of the objectives to be achieved and the activities to be conducted to develop a TEA and to meet the program outcomes in program requirement (c) by the end of this grant period;

(b) a timetable for accomplishing each of the objectives and activities that the applicant will undertake to achieve the program outcomes in program requirement (c);

(c) an assurance that the applicant does not have a TEA;

(d) a description of, and evidence of, past collaboration with State and local education entities;

(e) evidence that demonstrates the applicant has resources, including at least one full-time staff member assigned exclusively to support development of the expertise, staffing, and infrastructure needed to establish and sustain a TEA, and may include funding or in-kind resources from the Tribe dedicated to supporting Tribal students' education;

(f) a description of the method to be used for evaluating the effectiveness of the activities for which assistance is sought and for determining whether such objectives are achieved; and

(g) for applicants that are Tribal organizations (as defined in this notice), evidence of Tribal approval from every Tribe for which it is applying to be the applicant on their behalf.

Under ESEA section 6132(d)(3), in their applications, applicants must also—

(h) demonstrate that the eligible applicant has consulted with other education entities, if any, within the territorial jurisdiction of the applicant that will be affected by the activities to be conducted under the grant;

(i) describe the consultation with such other education entities in the operation and evaluation of the activities conducted under the grant; and

(j) demonstrate that there will be adequate resources provided under this program or from other sources to complete the activities for which assistance is sought.

Program Requirements: Applicants that receive grants under this program must meet the following requirements:

(a) Each grantee must use program funds to create a TEA and meet the program outcomes in paragraph (c).

(b) Grantees must engage in collaborative efforts that will allow the TEA to build partnerships with SEAs and LEAs.

(c) Program outcomes: At the end of the project period, grantees must demonstrate that their TEA has at least one full-time staff member dedicated to education issues and at least two of the following:

(1) A tribally sanctioned education code that is informed by available research on improving Indian student outcomes.

(2) Tribally sanctioned and culturally relevant curricula and professional development strategies focused on culturally relevant instruction.

(3) A partnership with an SEA or LEA that—

(i) Promotes Tribal self-determination in education;

(ii) Is designed to improve the academic achievement of Indian children and youth;

(iii) Promotes coordination and collaboration with SEAs and LEAs to meet the unique education and culturally related academic needs of Indian students;

(iv) Builds capacity to administer and coordinate education programs, and to improve the relationship and coordination with SEAs and LEAs that educate students from the Tribe;

(v) Includes training and support from the SEA and LEA to the TEA, in areas such as data collection and analysis, grants management and monitoring, fiscal accountability, and other areas as needed; and

(vi) Includes training and support from the TEA to the SEA and LEA in areas related to Tribal history, language, or culture.

(4) Committed resources (e.g., funding, staff, office space) from the Tribe or Tribes.

ISDEAA Hiring Preference:

(a) Awards that are primarily for the benefit of Indians are subject to the provisions of section 7(b) of the Indian Self-Determination and Education Assistance Act (Pub. L. 93-638). That section requires that, to the greatest extent feasible, a grantee—

(1) give to Indians preferences and opportunities for training and employment in connection with the administration of the grant; and

(2) give to Indian organizations and to Indian-owned economic enterprises, as defined in section 3 of the Indian Financing Act of 1974 (25 U.S.C. 1452(e)), preference in the award of contracts in connection with the administration of the grant.

(b) For purposes of this section, an Indian is a member of any federally recognized Indian tribe.

Definitions: The definitions of “Indian Tribe” and “Tribal educational agency” are from section 6132 of the ESEA. The definition of “relevant outcome” is from 34 CFR 77.1(c). We are establishing the definition of “Tribal Organization” for the FY 2019 grant competition, and any subsequent year in which we make awards from the list of unfunded applications from this competition, in accordance with section 437(d)(1) of GEPA, 20 U.S.C. 1232(d)(1). The following definitions apply to this competition:

Indian Tribe means a federally-recognized or a State-recognized Tribe.

Relevant outcome means the student outcome(s) or other outcome(s) the key project component is designed to achieve, consistent with the specific goals of the program.

Tribal educational agency (TEA) means the agency, department, or instrumentality of an Indian Tribe that is primarily responsible for supporting Tribal students' elementary and secondary education.

Note: For purposes of this program, this term also includes an agency, department, or instrumentality of more than one Tribe, if the Tribes are in close geographic proximity to each other.

Tribal organization means an Indian organization that—

(1) Is legally established—

(i) By Tribal or inter-Tribal charter or in accordance with State or Tribal law; and

(ii) With appropriate constitution, by-laws, or articles of incorporation;

(2) Includes in its purposes the promotion of the education of Indians;

(3) Is controlled by a governing board, the majority of which is Indian;

(4) If located on an Indian reservation, operates with the sanction of or by charter from the governing body of that reservation;

(5) Is neither an organization or subdivision of, nor under the direct control of, any institution of higher education; and

(6) Is not an agency of State or local government.

Waiver of Proposed Rulemaking: Under the Administrative Procedure Act (5 U.S.C. 553) the Department generally offers interested parties the opportunity to comment on proposed requirements and definitions. Section 437(d)(1) of GEPA, however, allows the Secretary to exempt from rulemaking requirements regulations governing the first grant competition under a new or substantially revised program authority. This is the first grant competition for this program under section 6132 of the ESEA (20 U.S.C. 7452), and, therefore, qualifies for this exemption. In order to ensure timely grant awards, the Secretary has decided to forgo public comment on the requirements and definitions under section 437(d)(1) of GEPA. These requirements and definitions will apply to the FY 2019 competition, and any subsequent year in which we make awards from the list of unfunded applications from this competition.

Program Authority: The program is authorized under section 6132(c)(1) of the ESEA, Grants To Tribes For Education, Administrative Planning, Development, And Coordination, 20 U.S.C. 7452.

Applicable Regulations: (a) The Education Department General Administrative Regulations in 34 CFR parts 75, 77, 79, 81, 82, 84, 86, 97, 98, and 99. (b) The Office of Management and Budget Guidelines to Agencies on Government-wide Debarment and Suspension (Non-procurement) in 2 CFR part 180, as adopted and amended as regulations of the Department in 2 CFR part 3485. (c) The Uniform Administrative Requirements, Cost Principles, and Audit Requirements for Federal Awards in 2 CFR part 200, as adopted and amended in 2 CFR part 3474.

Note: The regulations in 34 CFR part 79 apply to all applicants except federally recognized Indian Tribes.

II. Award Information

Type of Award: Discretionary grants.

Estimated Available Funds: $1,600,000.

Contingent upon the availability of funds and the quality of applications, we may make additional awards in subsequent years from the list of unfunded applications from this competition.

Estimated Range of Awards: $150,000 to $500,000.

Estimated Average Size of Awards: $350,000.

Estimated Number of Awards: 3-10.

Note: The Department is not bound by any estimates in this notice.

Project Period: Up to 12 months.

III. Eligibility Information

1. Eligible Applicants: Indian Tribes that do not have a TEA, Tribal organizations approved by an Indian Tribe that do not have a TEA, or a consortium of such entities.

2. Cost Sharing or Matching: This program does not require cost sharing or matching.

3. Supplement-Not-Supplant: This program involves supplement-not-supplant funding requirements.

4. Subgrantees: A grantee under this competition may not award subgrants to entities to directly carry out project activities described in its application.

IV. Application and Submission Information

1. Application Submission Instructions: Applicants are required to follow the Common Instructions for Applicants to Department of Education Discretionary Grant Programs, published in the Federal Register on February 13, 2019 (84 FR 3768), available at www.govinfo.gov/content/pkg/FR-2019-02-13/pdf/2019-02206.pdf, which contain information on how to submit an application.

2. Intergovernmental Review: This program is subject to Executive Order 12372 and the regulations in 34 CFR part 79. Information about Intergovernmental Review of Federal Programs under Executive Order 12372 is in the application package for this program.

3. Funding Restrictions: Funding restrictions are outlined in section 6132 (20 U.S.C.7452(3)(e)): (1) An Indian Tribe may not receive funds under this section if such Tribe receives funds under section 1140 of the Education Amendments of 1978 (20 U.S.C. 2020); and (2) no funds under this section may be used to provide direct services.

We reference additional regulations outlining funding restrictions in the Applicable Regulations section of this notice.

4. Recommended Page Limit:

The application narrative is where you, the applicant, address the selection criteria that reviewers use to evaluate your application. We recommend that you (1) limit the application narrative to no more than 50 pages and (2) use the following standards:

• A “page” is 8.5″ x 11″, on one side only, with 1″ margins at the top, bottom, and both sides.

• Double-space (no more than three lines per vertical inch) all text in the application narrative, including titles, headings, footnotes, quotations, references, and captions, as well as all text in charts, tables, figures, and graphs.

• Use a font that is either 12 point or larger or no smaller than 10 pitch (characters per inch).

• Use one of the following fonts: Times New Roman, Courier, Courier New, or Arial.

The recommended page limit does not apply to the cover sheet; the budget section, including the narrative budget justification; the assurances and certifications; or the one-page abstract, the resumes, the bibliography, or the letters of support. However, the recommended page limit does apply to all of the application narrative.

5. Notice of Intent to Apply: The Department will be able to review grant applications more efficiently if we know the approximate number of applicants that intend to apply. Therefore, we strongly encourage each potential applicant to notify us of their intent to submit an application. To do so, please email the program contact person listed under FOR FURTHER INFORMATION CONTACT with the subject line “Intent to Apply,” and include the applicant's name and a contact person's name and email address. Applicants that do not submit a notice of intent to apply may still apply for funding; applicants that do submit a notice of intent to apply are not bound to apply or bound by the information provided.

V. Application Review Information

1. Selection Criteria: The selection criteria for this program are from 34 CFR 75.210. We will award up to 100 points to an application under the selection criteria; the total possible points for each selection criterion are noted in parentheses.

a. Quality of the Project Design (Maximum 45 points). The Secretary considers the quality of the design of the proposed project. In determining the quality of the design of the proposed project, the Secretary considers the following factors:

(i) The extent to which the goals, objectives, and outcomes to be achieved by the proposed project are clearly specified and measurable. (up to 10 points)

(ii) The extent to which the proposed project will integrate with or build on similar or related efforts to improve relevant outcomes (as defined in this notice), using existing funding streams from other programs or policies supported by community, State, and Federal resources. (up to 10 points)

(iii) The extent to which the proposed project will establish linkages with other appropriate agencies and organizations providing services to the target population. (up to 10 points)

(iv) The extent to which the proposed project encourages parental involvement. (up to 10 points)

(v) The extent to which the methods of evaluation are appropriate to the context within which the project operates. (up to 5 points)

b. Adequacy of Resources (Maximum 40 points). The Secretary considers the adequacy of resources for the proposed project. In determining the adequacy of resources for the proposed project, the Secretary considers:

(i) The adequacy of support, including facilities, equipment, supplies, and other resources, from the applicant organization or the lead applicant organization. (up to 10 points)

(ii) The qualifications, including relevant training and experience, of the project director or principal investigator. (up to 10 points)

(iii) The qualifications, including relevant training and experience, of key project personnel. (up to 5 points)

(iv) The qualifications, including relevant training and experience, of project consultants or subcontractors. (up to 5 points)

(v) The potential for continued support of the project after Federal funding ends, including, as appropriate, the demonstrated commitment of appropriate entities to such support. (up to 10 points)

c. Quality of the Management Plan (Maximum 15 points). The Secretary considers the quality of the management plan for the proposed project. In determining the quality of the management plan for the proposed project, the Secretary considers the extent to which the time commitments of the project director and principal investigator and other key project personnel are appropriate and adequate to meet the objectives of the proposed project. (up to 15 points)

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary also requires various assurances, including those applicable to Federal civil rights laws that prohibit discrimination in programs or activities receiving Federal financial assistance from the Department (34 CFR 100.4, 104.5, 106.4, 108.8, and 110.23).

3. Risk Assessment and Specific Conditions: Consistent with 2 CFR 200.205, before awarding grants under this program, the Department conducts a review of the risks posed by applicants. Under 2 CFR 3474.10, the Secretary may impose specific conditions and, in appropriate circumstances, high-risk conditions on a grant if the applicant or grantee is not financially stable; has a history of unsatisfactory performance; has a financial or other management system that does not meet the standards in 2 CFR part 200, subpart D; has not fulfilled the conditions of a prior grant; or is otherwise not responsible.

4. Integrity and Performance System: If you are selected under this competition to receive an award that over the course of the project period may exceed the simplified acquisition threshold (currently $250,000), under 2 CFR 200.205(a)(2) we must make a judgment about your integrity, business ethics, and record of performance under Federal awards—that is, the risk posed by you as an applicant—before we make an award. In doing so, we must consider any information about you that is in the integrity and performance system (currently referred to as the Federal Awardee Performance and Integrity Information System (FAPIIS)), accessible through the System for Award Management. You may review and comment on any information about yourself that a Federal agency previously entered and that is currently in FAPIIS.

Please note that, if the total value of your currently active grants, cooperative agreements, and procurement contracts from the Federal Government exceeds $10,000,000, the reporting requirements in 2 CFR part 200, Appendix XII, require you to report certain integrity information to FAPIIS semiannually. Please review the requirements in 2 CFR part 200, Appendix XII, if this grant plus all the other Federal funds you receive exceed $10,000,000.

VI. Award Administration Information

1. Award Notices: If your application is successful, we notify your U.S. Representative and U.S. Senators and send you a Grant Award Notification (GAN); or we may send you an email containing a link to access an electronic version of your GAN. We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Open Licensing Requirements: Unless an exception applies, if you are awarded a grant under this competition, you will be required to openly license to the public grant deliverables created in whole, or in part, with Department grant funds. When the deliverable consists of modifications to pre-existing works, the license extends only to those modifications that can be separately identified and only to the extent that open licensing is permitted under the terms of any licenses or other legal restrictions on the use of pre-existing works. Additionally, a grantee or subgrantee that is awarded competitive grant funds must have a plan to disseminate these public grant deliverables. This dissemination plan can be developed and submitted after your application has been reviewed and selected for funding. For additional information on the open licensing requirements please refer to 2 CFR 3474.20.

4. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multiyear award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

(c) Under 34 CFR 75.250(b), the Secretary may provide a grantee with additional funding for data collection analysis and reporting. In this case, the Secretary establishes a data collection period.

5. Performance Measure:

The number of Tribes that create a TEA by the end of the grant period.

VII. Other Information

Accessible Format: Individuals with disabilities can obtain this document and a copy of the application package in an accessible format (e.g., braille, large print, audiotape, or compact disc) on request to the program contact person listed under FOR FURTHER INFORMATION CONTACT.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Frank T. Brogan,
Assistant Secretary for Elementary and Secondary Education.

[FR Doc. 2019-12500 Filed 6-12-19; 8:45 am]

BILLING CODE 4000-01-P